DEPARTMENT OF COMMERCE

International Trade Administration

[A-337-804, A-533-813, A-560-802, A-570-851]

Certain Preserved Mushrooms from Chile, India, Indonesia and the People's Republic of China; Final Results of Expedited Sunset Reviews of Antidumping Duty Orders

AGENCY: Import Administration, International Trade Administration, Department of Commerce.

ACTION: Notice of Final Results of Expedited Sunset Reviews of Antidumping Duty Orders on Certain Preserved Mushrooms from Chile, India, Indonesia, and the People's Republic of China.

SUMMARY: On August 1, 2003, the Department of Commerce (“the Department”) published the notice of initiation of sunset reviews on Certain Preserved Mushrooms from Chile, India, Indonesia, and the People's Republic of China. On the basis of the notice of intent to participate, and the adequate substantive comments filed on behalf of a domestic interested party and inadequate response (in this case, no response) from respondent interested parties, we determined to conduct expedited (120-day) sunset reviews. As a result of these reviews, we find that revocation of the antidumping duty orders would be likely to lead to continuation or recurrence of dumping at the levels listed below in the section entitled “Final Results of Review.”

EFFECTIVE DATE: March 10, 2004.

FOR FURTHER INFORMATION CONTACT: Alessandra Cortez or Ozlem Koray, Office of Policy for Import Administration, International Trade Administration, U.S. Department of Commerce, 14th Street and Constitution Avenue, NW, Washington, DC, 20230; telephone: (202) 482-5925 or (202) 482-3675.

SUPPLEMENTARY INFORMATION:

Background

On August 1, 2003, the Department published the notice of initiation of sunset reviews of the antidumping duty orders on Certain Preserved Mushrooms from Chile, India, Indonesia, and the People's Republic of China pursuant to section 751(c) of the Tariff Act of 1930, as amended (the “Act”).¹ The Department received the Notices of Intent to Participate on behalf of a domestic interested party, the Coalition for Fair Preserved Mushroom Trade (collectively the “Coalition”) ², within the deadline specified in section 351.218(d)(1)(i) of the Department's Regulations (Sunset Regulations). The Coalition claimed interested party status under Section 771(9)(C) of the Act as a U.S. producer of a domestic like product. We received complete substantive responses in the sunset reviews from the Coalition within the 30-day deadline specified in the Department's Regulations under section 351.218(d)(3)(i).

¹ Initiation of Five-Year (Sunset) Reviews, 68 FR 45219 (August 1, 2003)

² The Coalition includes L. K. Bowman, Inc., Monterey Mushrooms Inc., Mushroom Canning Company, and Sunny Dell Foods Inc.

We did not receive a substantive response from any respondent interested parties to these proceedings. As a result, pursuant to section 751(c)(3)(B) of the Act and 19 CFR 351.218(e)(1)(ii)(C), the Department conducted expedited, 120-day reviews of these antidumping duty orders.

Scope of Review

The products covered under the Certain Preserved Mushrooms orders are imported whole, sliced, diced, or as stems and pieces. The “preserved mushrooms” covered under the orders are the species Agaricus bisporus and Agaricus bitorquis. “Preserved mushrooms” refer to mushrooms that have been prepared or preserved by cleaning, blanching, and sometimes slicing or cutting. These mushrooms are then packed and heated in containers, including but not limited to cans or glass jars in a suitable liquid medium, including but not limited to water, brine, butter or butter sauce. Included within the scope of these orders are “brined” mushrooms, which are presalted and packed in a heavy salt solution to provisionally preserve them for further processing. Also included within the scope of these orders, as of June 19, 2000, are marinated, acidified, or pickled mushrooms containing less than 0.5 percent acetic acid.

Excluded from the scope of these orders are the following: (1) all other species of mushroom, including straw mushrooms; (2) all fresh and chilled mushrooms, including “refrigerated” or “quick blanched mushrooms"; (3) dried mushrooms; and (4) frozen mushrooms.The merchandise subject to these orders were previously classifiable under subheadings 2003.10.0027, 2003.10.0031, 2003.10.0037, 2003.10.0043, 2003.10.0047, 2003.10.0053, and 0711.90.4000 of the Harmonized Tariff Schedule of the United States (“HTSUS”). Although the HTSUS subheadings are provided for convenience and customs purposes, the written description of the scope of these orders is dispositive. As of January 1, 2002, the HTSUS codes are as follows: 2003.10.0127, 2003.10.0131, 2003.10.0137, 2003.10.0143, 2003.10.0147, 2003.10.0153, 0711.51.0000.

Analysis of Comments Received

All issues raised in these cases by the Coalition are addressed in the “Issues and Decision Memorandum” (“Decision Memo”) from Ronald K. Lorentzen, Acting Director, Office of Policy, Import Administration, to James J. Jochum, Assistant Secretary for Import Administration, dated March 3, 2004, which is hereby adopted by this notice. The issues discussed in the Decision Memo include the likelihood of continuation or recurrence of dumping and the magnitude of the margin likely to prevail if the orders were to be revoked. Parties can find a complete discussion of all issues raised in these reviews and the corresponding recommendations in this public memorandum, which is on file in room B-099 of the main Commerce Building.

In addition, a complete version of the Decision Memo can be accessed directly on the Web at http://ia.ita.doc.gov/frn, under the heading “March 2004.” The paper copy and electronic version of the Decision Memorandum are identical in content.

Final Results of Review

We determine that revocation of the antidumping duty orders on Certain Preserved Mushrooms from Chile, India, Indonesia, and the People's Republic of China would be likely to lead to continuation or recurrence of dumping at the following percentage weighted-average margins:

Chile Manufacturers/Exporters | Weighted Average Margin Percent
Nature's Farm Products (Chile) S.A. | 148.51
Ravine Foods | 148.51
All Others | 148.51

India Manufacturers/Exporters | Weighted Average Margin Percent
Agro Dutch Foods Ltd | 6.28
Ponds (India) Ltd | 14.91
Alpine Biotech Ltd | 243.87
Mandeep Mushrooms Ltd | 243.87
All Others | 11.30

Indonesia Manufacturers/Exporters | Weighted Average Margin Percent
PT Dieng Djaya/PT Surya Jaya Abadi Perkasa | 7.94
PT Zeta Agro Corporation | *revoked
All Others | 11.26
*Effective as of February 1, 2002, the antidumping duty order with respect to PT Zeta Agro Corporation was revoked. See Antidumping or Countervailing Duty Order, Finding, or Suspended Investigation Opportunity To Request Administrative Review, 67 FR 4549 (February 1, 2002).

PRC Manufacturers/Exporters | Weighted Average Margin Percent
China Processed Food I&E Co./Xiamen Jiahua I&E Trading Company, Ltd . | 121.47
Tak Fat Trading Co | 162.47
Shenzhen Cofry Cereals, Oils, & Foodstuffs Co., Ltd | 151.15
Gerber (Yunnan) Food Co | 198.63³
Jiangsu Cereals, Oils & Foodstuffs Group Import & Export Corporation | 142.11
Fujian Provincial Cereals, Oils & Foodstuffs I&E Corp | 142.11
Putian Cannery Fujian Province | 142.11
Xiamen Gulong I&E Co., Ltd | 142.11
General Canned Foods Factory of Zhangzhou | 142.11
Zhejiang Cereals, Oils & Foodstuffs I&E Corp | 142.11
Shanghai Foodstuffs I&E Corp142.11 Canned Goods Co. of Raoping | 142.11
PRC-wide Rate | 198.63
³ In the more recent administrative review of certain preserved mushrooms from the People's Republic of China, the Department applied an adverse facts available rate for Gerber (Yunnan) Co., of 198.63 which differs from the rate calculated for Gerber in the underlying investigation. See Certain Preserved Mushrooms From the People's Republic of China: Final Results and Partial Rescission of the New Shipper Review and Final Results and Partial Rescission of the Third Antidumping Duty Administrative Review, 68 FR 41304 (July 11, 2003)

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: March 3, 2004.
Joseph A. Spetrini,
Acting Assistant Secretary for Import Administration.

[FR Doc. 04-5382 Filed 3-9-04; 8:45 am]

BILLING CODE 3510-DS-S